ENVIRONMENTAL PROTECTION AGENCY

40 CFR Part 52

[EPA-R08-OAR-2015-0085; FRL-9933-49-Region 8]

Approval and Promulgation of State Implementation Plan Revisions; Rules, General Requirements and Test Methods; Utah

AGENCY: Environmental Protection Agency (EPA).

ACTION: Final rule.

SUMMARY: The Environmental Protection Agency (EPA) is approving State Implementation Plan (SIP) revisions submitted by the State of Utah on January 28, 2010, September 16, 2010, June 18, 2013, and August 29, 2014. These submittals revise the rules, general requirements and test methods for the State of Utah. The amendments also update the version of the Code of Federal Regulations (CFR) incorporated by reference into the rules of the State of Utah. EPA is not taking action on an April 26, 2012 submittal or a November 4, 2013 submittal because they have been superseded by the August 29, 2014 submittal. EPA is taking this action in accordance with section 110 of the Clean Air Act (CAA).

DATES: This final rule is effective February 29, 2016.

ADDRESSES: EPA has established a docket for this action under Docket ID No. EPA-R08-OAR-2015-0085. All documents in the docket are listed on the www.regulations.gov Web site. Although listed in the index, some information is not publicly available, e.g., Confidential Business Information (CBI) or other information whose disclosure is restricted by statute. Certain other material, such as copyrighted material, is not placed on the Internet and will be publicly available only in hard copy form. Publicly available docket materials are available either electronically through www.regulations.gov or in hard copy at the Air Program, Environmental Protection Agency (EPA), Region 8, 1595 Wynkoop Street, Denver, Colorado 80202-1129. EPA requests that if at all possible, you contact the individual listed in the FOR FURTHER INFORMATION CONTACT section to view the hard copy of the docket. You may view the hard copy of the docket Monday through Friday, 8:00 a.m. to 4:00 p.m., excluding federal holidays.

FOR FURTHER INFORMATION CONTACT: Jody Ostendorf, Air Program, U.S. Environmental Protection Agency (EPA), Region 8, Mail Code 8P-AR, 1595 Wynkoop Street, Denver, Colorado 80202-1129, 303-312-7104, ostendorf.jody@epa.gov.

SUPPLEMENTARY INFORMATION:

I. Background for Our Final Action

The background for today's final rule is discussed in detail in our June 19, 2015 proposal (see 80 FR 35295). The comment period was open for 30 days and we received no comments.

II. Final Rule

EPA is approving the SIP revisions submitted by Utah on January 28, 2010, September 16, 2010, June 18, 2013 and August 29, 2014. We are approving the January 28, 2010 revisions to R307-405-2, with the exception of the proposed change to the incorporation by reference date, and approving all of the revisions to R307-102. We are approving the June 18, 2013 SIP revisions, with the exception of the non-substantive change to re-number R307-410-5(1)[(d)] to R307-410-5(1)(c)(i)(C). The August 29, 2014 submittal's newly amended rule supersedes and replaces all previous versions of submittals of R307-101-3, General Requirements, Version of Code of Federal Regulations Incorporated by Reference. EPA is approving the August 29, 2014 revisions. Previous submittals were received on January 28, 2010, September 16, 2010, April 26, 2012 and November 4, 2013. No further EPA action is required on those earlier submittals.

III. Incorporation by Reference

In this rule, the EPA is including in a final EPA rule regulatory text that includes incorporation by reference. In accordance with requirements of 1 CFR 51.5, the EPA is proposing to incorporate by reference the Utah Division of Air Quality rules regarding rules, general requirements, and test methods discussed in the June 19, 2015 proposal (FR 35295). The EPA has made, and will continue to make, these documents generally available electronically through www.regulations.gov and/or in hard copy at the appropriate EPA office (see the ADDRESSES section of this preamble for more information).

IV. Statutory and Executive Orders Review

Under the Clean Air Act, the Administrator is required to approve a SIP submission that complies with the provisions of the Act and applicable federal regulations 42 U.S.C. 7410(k); 40 CFR 52.02(a). Thus, in reviewing SIP submissions, EPA's role is to approve state actions, provided that they meet the criteria of the Clean Air Act. Accordingly, this final action merely approves some state law as meeting federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact in a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq, as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by March 29, 2016. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: August 24, 2015.
Shaun L. McGrath,
Regional Administrator, Region 8.

Editorial note: This document was received for publication by the Office of Federal Register on January 21, 2016.

40 CFR part 52 is amended to read as follows:

PART 52—APPROVAL AND PROMULGATION OF IMPLEMENTATION PLANS

1. The authority citation for part 52 continues to read as follows:

Authority: 42 U.S.C. 7401 et seq.

Subpart TT—Utah

2. Section 52.2320 is amended by adding and reserving paragraph (c)(81) and adding paragraph (c)(82) to read as follows:

§ 52.2320 Identification of plan.

* * * * *

(c) * * *

(81) * * *

(82) On January 28, 2010, September 16, 2010, June 18, 2013, November 4, 2013 and August 29, 2014, the Governor submitted revisions to the Utah State Implementation Plan (SIP). We are approving the January 28, 2010 revisions to R307-405-2, with the exception of the proposed change to the incorporation by reference date, and approving all of the revisions to R307-102. We are approving the June 18, 2013 SIP revisions, with the exception of the non-substantive change to re-number R307-410-5(1)[(d)] to R307-410-5(1)(c)(i)(C). The August 29, 2014 submittal's newly amended rule supersedes and replaces all previous versions of submittals of R307-101-3, General Requirements, Version of Code of Federal Regulations Incorporated by Reference. EPA is approving the August 29, 2014 revisions. Previous submittals of R307-101-3 were received on January 28, 2010, September 16, 2010, April 26, 2012 and November 4, 2013. No further EPA action is required on these earlier submittals.

(i) Incorporation by reference.

(A) Title R307 of the Utah Administrative Code, Environmental Quality, Air Quality, R307-101, General Requirements, R307-101-2, Definitions; effective December 2, 2009 as proposed in the Utah State Bulletin on October 1, 2009, and published as effective in the Utah State Bulletin on January 1, 2010.

(B) Title R307 of the Utah Administrative Code, Environmental Quality, Air Quality, R307-101, General Requirements, R307-101-3, Version of Code of Federal Regulations Incorporated by Reference; effective August 7, 2014, as proposed in the Utah State Bulletin on June 1, 2014, and published as effective in the Utah State Bulletin on September 1, 2014.

(C) Title R307 of the Utah Administrative Code, Environmental Quality, Air Quality, R307-401, Permit: New and Modified Sources, R307-401-15, Air Strippers and Soil Venting Projects; effective February 7, 2013, as proposed in the Utah State Bulletin on December 1, 2012, and published as effective in the Utah State Bulletin on March 1, 2013.

(D) Title R307 of the Utah Administrative Code, Environmental Quality, Air Quality, R307-405, Permits: Major Sources in Attainment or Unclassified Areas (PSD), R307-405-2, Applicability; effective February 5, 2009, as proposed in the Utah State Bulletin on November 1, 2008, and published as effective in the Utah State Bulletin on March 1, 2009.

[FR Doc. 2016-01550 Filed 1-28-16; 8:45 am]

BILLING CODE 6560-50-P